DEPARTMENT OF TRANSPORTATION

Coast Guard

33 CFR Parts 100, 110, and 165

[CGD01-99-191]

RIN 2115-AA97, AA98, AE46

Temporary Regulations: SAIL BOSTON 2000, Port of Boston, MA

AGENCY: Coast Guard, DOT.

ACTION: Notice of proposed rulemaking.

SUMMARY: The Coast Guard proposes to establish several temporary regulated areas, safety and security zones, and spectator anchorages before, during, and after Sail Boston 2000 events in the Port of Boston, Massachusetts, to be held between July 10-16, 2000. These regulations are necessary to promote the safe navigation of vessels and the safety of life and property during the heavy volume of vessel traffic expected during this event.

DATES: Comments and related material must reach the Coast Guard on or before May 1, 2000.

ADDRESSES: Comments should be mailed to: Commanding Officer, U.S. Coast Guard Marine Safety Office Boston, Attn: Waterways Management Division, 455 Commercial Street, Boston, MA 02109. The Waterways Management Division of Marine Safety Office Boston maintains the public docket for this rulemaking. Comments and material received from the public, as well as documents, will become part of this docket and will be available for inspection and copying at the Coast Guard Marine Safety Office.

FOR FURTHER INFORMATION CONTACT: Lieutenant Brian Downey, Marine Safety Office Boston, Boston, MA 02109; (617) 223-3000.

SUPPLEMENTARY INFORMATION:

Request for Comments

The Coast Guard encourages interested persons to participate in this rulemaking by submitting comments and related material. Each person submitting comments should include their name and address, identify this notice (CGD01-99-191), the specific section of the proposal to which each comment applies, and give the reason for each comment. Comments and attachments should be submitted on 8½″ × 11″ unbound paper in a format suitable for copying and electronic filing. Persons requesting acknowledgement of receipt of comments should include a stamped, self-addressed postcard or envelope. All comments submitted during the comment period will be considered by the Coast Guard and may change this proposal. The comment period for this regulation is 45 days. This time period is adequate to allow public comment because this event is highly publicized and coordinated with other Coast Guard Districts. The shortened comment period will allow the full 30 day publication requirement prior to the final rule becoming effective. Copies of this proposal will also be placed in the local notice to mariners.

Public Hearing

The Coast Guard has no plans to hold a public hearing. Informal public meetings were held December 1 and 7, 1999, and comments raised have been incorporated into this document. Persons may request a public hearing by writing to Commander, First Coast Guard District (m) via Marine Safety Office Boston, at the address listed under ADDRESSES. The request should include reasons why a public hearing would be beneficial. If the Coast Guard determines that oral presentations will aid in this rulemaking, it will hold a public hearing at a time and place to be announced by a later notice in the Federal Register.

Background and Purpose

The proposed temporary regulations are for Sail Boston 2000 events held in Boston Harbor. These events will be held from July 10 through 16, 2000. This rule is proposed to provide for the safety of life on navigable waters and to protect U.S. Navy vessels, tall ships, spectators, and the Port of Boston during these events. At the time of this notice, Sail Boston 2000 events are expected to include the following:

1. July 10-11: Tall Ship Rally

2. July 11: Grand Parade of Sail

3. July 11-16: Safety and Security Zones

4. July 11-16: USS JOHN F. KENNEDY and Support Vessel Visits

5. July 12-15: Public Boarding of Tall Ships

6. July 15: Boston 2000 Fireworks Extravaganza

7. July 16: Salute to USS CONSTITUTION Parade

8. July 16: Tall Ships 2000 Race Restart

Discussion of Proposed Rule

Sail Boston 2000, Inc. is sponsoring Sail Boston 2000. The scheduled events will occur between July 10 and 16, 2000 in the Port of Boston and surrounding waters. The events will consist of a July 10 and 11, 2000 Tall Ship Rally in Broad Sound, and a July 11, 2000 Parade of Sail from Broad Sound into Boston Harbor. The parade route will originate in Broad Sound and follow Boston North Channel southwesterly, passing between Deer Island and Long Island through President Roads and continue inbound through the Boston Main Channel to various berths throughout the Port of Boston using the Main Ship Channel. The USS CONSTITUTION will lead the Grand Parade of Sail. The festivities also include a July 15, 2000 fireworks display and a July 16, 2000 Salute to the USS CONSTITUTION. The Salute to the USS CONSTITUTION consists of a tall ship parade. The parade route will begin from various mooring sites in Boston Inner Harbor, transiting outbound through the Main Channel, Boston North Channel to Broad Sound. The USS CONSTITUTION will anchor in Spectator Anchorage K. No other vessels will be permitted in Spectator Anchorage K without permission of the Captain of the Port.

During this same period it is expected that U.S. Navy aircraft carrier USS JOHN F. KENNEDY will be in port joining this celebration. The USS JOHN F. KENNEDY will be berthed at the North Jetty in the Marine Industrial Park, South Boston, MA.

The Coast Guard estimates 10,000 spectator craft will attend the events. The proposed regulations would create temporary anchorage regulations, vessel movement controls through regulated areas, and safety and security zones. The proposed regulations would be in effect at various times in Boston Harbor between July 10 and 16, 2000. Vessel congestion, due to the anticipated large number of participating and spectator vessels, poses a significant threat to the safety of life. This proposed rulemaking is necessary to ensure the safety of life on the navigable waters of the United States.

All coordinates are North American Datum (NAD) 1983.

Regulated Areas

The Coast Guard proposes to establish three regulated areas in Boston Harbor that will be in effect during Sail Boston 2000 events. These proposed regulated areas are needed to permit unrestricted law enforcement vessel access to support facilities. Additionally, the regulated areas will protect the maritime public and participating vessels from possible hazards to navigation associated with the dense vessel traffic.

Regulated Area A covers all waters of Broad Sound and Boston Outer Harbor bounded by 070°52′00″ W, 070°57′13″ W, 42°17′30″ N, and 42°24′42″ N including the following waterways: Nahant Bay, Broad Sound, Boston North Channel, Boston South Channel, Nubble Channel, Hull Bay, and Nantasket Roads. The area includes also all temporary spectator anchorages established in 33 CFR 110.T01-135-191. Regulated Area A would be applicable from 8 am until 6 pm on July 11, 2000 and 8 am until 6 pm on July 16, 2000.

Regulated Area B covers all waters of Boston Inner Harbor westward from a line drawn between Deer Island at position 42°20′38″ N, 070°57′13″ W and Long Island at position 42°19′51″ N, 070°57′13″ W including President Roads, Sculpin Ledge Channel, Dorchester Bay, Western Way, the Boston Main Channel, the Reserved Channel to the Summer Street retractile bridge, the Fort Point Channel to the Congress Street Bridge, the Charles River to the Gridley Locks at the Charles River Dam, the Mystic River to the Alford Street Bridge, and the Chelsea River to the McArdle Bridge. The area also includes all temporary spectator anchorages established in 33 CFR 110.T01-135-191. Regulated Area B would be applicable from 8 am on July 11, 2000 until 6 pm on July 16, 2000.

A fifty (50) foot safety zone around all moored tall ships is proposed. Regulated Area B will ensure the safety of moored tall ships and spectator craft.

On July 11, 2000, following the Grand Parade of Sail, Boston Harbor will reopen in sequence with the movement and mooring of the final flotilla of tall ships. After the final flotilla of tall ships has passed Castle Island, vessel operators anchored in spectator anchorages east of Castle Island may depart for locations outside Boston Harbor. After the final flotilla of tall ships has safely moored, vessel operators may depart from the remaining established spectator anchorages. Vessels transiting through Boston Harbor must proceed as directed by on-scene Coast Guard personnel.

On July 16, 2000, following the Salute to USS CONSTITUTION, Boston Harbor will reopen in sequence with the movement of the last outbound tall ship. After the last outbound tall ship has passed Castle Island, vessel operators may depart established spectator anchorages west of Castle Island and transit to locations within Boston Harbor, but west of Castle Island.

After the last outbound tall ship has passed the Boston North Channel Entrance Lighted Gong Buoy “NC”, vessel operators anchored in established spectator anchorages may depart for locations outside Boston Harbor.

Regulated Area C is proposed as an Emergency Transit Lane from Boston Main Channel Light “5” to Charlestown Navy Yard Pier “1” extending fifty (50) yards into the outbound lane of the Boston Main Channel. The lane is proposed to allow unlimited access to emergency and law enforcement vessels.

Regulated Area C, implementing emergency lane restrictions, would be enforced from 8 am until 6 pm on July 11, 2000 and from 8 am until 6 pm, on July 16, 2000.

Anchorage Regulations

The Coast Guard proposes to establish temporary anchorage regulations for participating Sail Boston 2000 ships and spectator craft. 33 CFR 110.134 is temporarily suspended by this regulation and new spectator anchorages and regulations are temporarily established.

The proposed anchorage regulations temporarily establish spectator anchorages for spectator craft or Sail Boston 2000 participant vessel use only. They restrict all other vessels from using these spectator anchorages during Sail Boston 2000 events.

The Coast Guard proposes to establish temporary spectator anchorages in the vicinity of Boston North Channel, Long Island, President Roads, and Boston Inner Harbor. Additionally, the Coast Guard proposes to establish a temporary anchorage for the exclusive use of tall ships in Broad Sound and Mystic River. The applicable dates for the proposed temporary spectator anchorages are July 10 and 11, 2000 and July 15 and 16, 2000.

Safety and Security Zones

The Coast Guard proposes to establish temporary safety and security zones throughout Broad Sound and Boston Inner and Outer Harbors. During the July 10 and 11, 2000 Tall Ship Rally in Broad Sound, a safety zone encompassing all waters within a five hundred (500) yard radius from approximate position 42°23′06″ N, 070°53′26″ W and all tall ship anchorages established in 33 CFR 110.T01-135-191 is proposed.

On July 11, 2000 from 8 am until 6 pm a three hundred (300) yard moving safety zone around participating tall ships is proposed for Broad Sound and Boston Harbor. The safety zone will ensure the safety of participating tall ships and spectator craft during the Grand Parade of Sail. On July 15, 2000 a four hundred (400) yard safety zone surrounding fireworks barges in Boston Inner Harbor is proposed from 8 pm until 11 pm The safety zone will ensure the safety of spectator craft during the scheduled fireworks display. Fireworks will be fired from barges anchored northeast of Pier “2” in South Boston. From 8 am until 6 pm on July 16, 2000, a three hundred (300) yard moving safety zone around each participating tall ship is proposed for Boston Harbor and Broad Sound. The safety zone will ensure the safety of participating tall ships and spectator craft during the Salute to the USS CONSTITUTION Parade. On July 16, 2000 a three (3) square mile safety zone is proposed for Massachusetts Bay off of Nahant from 10 am until 6 pm. This three (3) square mile area will serve as the staging area for the Tall Ships 2000 Race Restart. The safety zone will ensure the safety of participating tall ships and spectator craft during the Tall Ships 2000 Race Restart. A three hundred (300) yard moving safety zone around each participating tall ship is also proposed for the Tall Ships 2000 Race Restart as each proceeds from its respective berth to the staging area.

From 6 pm July 10, 2000 until 6 pm July 16, 2000, a five hundred (500) yard security zone is proposed for Boston Inner Harbor's North Jetty, in South Boston. The security zone will protect the moored U.S. naval aircraft carrier USS JOHN F. KENNEDY. All safety and security zones will be easily identifiable by patrolling Coast Guard and law enforcement craft.

Regulatory Evaluation

This proposal is not a significant regulatory action under section 3(f) of Executive Order 12866 and does not require an assessment of potential costs and benefits under section 6(a)(3) of that Order. The Office of Management and Budget has not reviewed it under that Order. It is not significant under the regulatory policy and procedures of the Department of Transportation (DOT) (44 FR 11040, February 26, 1979). The economic impact of this proposed rule is expected to be so minimal that a full Regulatory Evaluation under paragraph 10e of the regulatory policies and procedures of DOT is unnecessary. Although this regulation imposes traffic restrictions in portions of Boston Harbor during the events, the effect of this regulation will not be significant for the following reasons: The regulated areas, spectator anchorages, and safety and security zones, will be limited in duration; and extensive advance notice will be made to the maritime community via Local Notice to Mariners, facsimile, marine safety information broadcasts, local Port Operators Group meetings, the Internet, and Boston area newspapers and media. The advance notice will permit mariners to adjust their plans accordingly. Additionally, these regulated areas are tailored to impose the least impact on maritime interests without compromising safety.

Similar regulated areas and safety and security zones were established for Sail Boston 1992 events. Based upon the Coast Guard's experiences from that previous similar magnitude event, these proposed regulations have been narrowly tailored to impose the least impact on maritime interests yet provide the necessary level of safety.

Small Entities

Under the Regulatory Flexibility Act (5 U.S.C. 601-612), an initial review was conducted to determine whether this proposed rule would have a significant economic impact on a substantial number of small entities. The term “small entities” comprises small businesses, not-for-profit organizations that are independently owned and operated and are not dominant in their fields, and governmental jurisdictions with populations of less than 50,000.

For the reasons stated in the Regulatory Evaluation section above, the Coast Guard certifies under 5 U.S.C. 605(b) that this proposed rule, if adopted, will not have a significant economic impact on a substantial number of small entities.

This proposed rule would affect the following entities, some of which might be small entities: The owners or operators of vessels intending to transit or anchor in portions of Broad Sound and Boston Inner and Outer Harbors during various times from July 10 until 16, 2000. These regulations would not have a significant economic impact on a substantial number of small entities because the Coast Guard will notify the public via mailings, facsimiles, Local Notice to Mariners, marine safety information broadcasts, local Port Operators Group meetings, the media, the Internet, and Boston area newspapers. In addition, the sponsoring organization, Sail Boston 2000, Inc., plans to announce event information in local newspapers, pamphlets, and television and radio broadcasts. The advance notice will permit mariners to adjust their plans accordingly. Although these regulations would apply to a substantial portion of the Port of Boston, areas for viewing the Parade of Sail, Boston 2000 Fireworks Extravaganza, Salute to USS CONSTITUTION, and Tall Ships 2000 Race Restart are being established to maximize the use of the waterways by commercial vessels that usually operate in the affected areas.

Businesses, organizations, or governmental jurisdictions that qualify as a small entity and believe that this rule would significantly impact them may submit a comment (see ADDRESSES) explaining why they think they qualify and how and to what degree this rule would economically affect them.

Assistance for Small Entities

Under section 213(a) of the Small Business Regulatory Enforcement Fairness Act of 1996 (Pub. L. 104-121), the Coast Guard aims to assist small entities in understanding this proposed rule so that they can better evaluate its effects on them and participate in the rulemaking. If the rule would affect your small business, organization, or governmental jurisdiction and you have questions concerning its provisions or options for compliance, please contact Lieutenant Brian Downey, Marine Safety Office, Boston, at (617) 223-3000.

Collection of Information

This proposed rule would call for no new collection of information under the Paperwork Reduction Act of 1995 (44 U.S.C. 3501-3520).

Federalism

An analysis of this proposed rule under E.O. 13132 has determined that this rule does not have implications for federalism under that order.

Unfunded Mandates Reform Act

The Unfunded Mandates Reform Act of 1995 (2 U.S.C. 1531-1538) governs the issuance of Federal regulations that require unfunded mandates. An unfunded mandate is a regulation that requires a State, local or tribal government or the private sector to incur direct costs without the Federal Government having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

An analysis of this proposed rule under E.O. 13045, Protection of Children from Environmental Health Risks and Safety Risks has determined that this rule is not an economically significant rule and does not concern an environmental risk to health or risk to safety that may disproportionately affect children.

Environment

The Coast Guard considered the environmental impact of this proposed rule and concluded that, under figure 2-1, paragraphs 34 (f, g, and h) of Commandant Instruction M16475.1C, this proposed rule is categorically excluded from further environmental documentation. A written “Categorical Exclusion Determination” is available in the docket where indicated under ADDRESSES.

List of Subjects

33 CFR Part 100

Marine safety, Navigation (water), Reporting and recordkeeping requirements, Waterways.

33 CFR Part 110

Anchorage grounds.

33 CFR Part 165

Harbors, Marine safety, Navigation (water), Reporting and recordkeeping requirements, Security measures, Waterways.

For the reasons discussed in the preamble, the Coast Guard proposes to amend 33 CFR Parts 100, 110, and 165 as follows:

PART 100—MARINE EVENTS

1. The authority citation for part 100 continues to read as follows:

Authority: 33 U.S.C. 1233 through 1236; 49 CFR 1.46; 33 CFR § 100.35.

2. Add temporary § 100.TO1-191 to read as follows:

§ 100.TO1-191 Regulated area, Broad Sound, Boston Outer Harbor, and Boston Inner Harbor.

(a) Regulated Areas: All regulated area coordinates are NAD 1983.

(1) Regulated Area A—(i) Location. The following is Regulated Area A: All waters of Broad Sound and Boston Outer Harbor bounded by 070°52′00″ W, 070°57′13″ W, 42°17′30″ N, and 42°24′42″ N including the following waterways: Nahant Bay, Broad Sound, Boston North Channel, Boston South Channel, Nubble Channel, Hingham Bay, Hull Bay, and Nantasket Roads.

(ii) Enforcement period. Paragraph (a)(1)(i) of this section is enforced from 8 am until 6 pm on July 11, 2000 and from 8 am until 6 pm on July 16, 2000.

(2) Regulated Area B—(i) Location. The following is Regulated Area B: Boston Inner Harbor westward from a line drawn between Deer Island at position 42°20′38″ N, 070°57′13″ W and Long Island at position 42°191′51″ N, 070°57′13″ W including President Roads, Sculpin Ledge Channel, Dorchester Bay, Western Way, the Boston Main Channel, the Reserved Channel to the Summer Street retractile bridge, the Fort Point Channel to the Congress Street Bridge, the Charles River to the Gridley Locks at the Charles River Dam, the Mystic River to the Alford Street Bridge, and the Chelsea River to the McArdle Bridge.

(ii) Enforcement period. Paragraph (a)(2)(i) of this section is enforced from 8 am on July 11, 2000 until 6 pm on July 16, 2000.

(3) Regulated Area C—(i) Location. The following is Regulated Area C: All waters from Boston Main Channel Light “5” to Charlestown Navy Yard Pier “1” extending fifty (50) yards into the outbound lane of the Boston Main Channel.

(ii) Enforcement period. Paragraph (a)(3)(i) of this section is enforced from 8 am until 6 pm on July 11, 2000 and from 8 am until 6 pm on July 16, 2000.

(b) Special local regulation. (1) During the effective period, vessel operators transiting through regulated areas A and B shall proceed at no wake speeds not to exceed five miles per hour, unless otherwise authorized by the Captain of the Port.

(2) Vessel operators shall comply with the instructions of on-scene Coast Guard patrol personnel. On-scene Coast Guard patrol personnel include commissioned, warrant, and petty officers of the Coast Guard on board Coast Guard, Coast Guard Auxiliary, U.S. Navy, local, state, and federal law enforcement vessels.

(3) After completion of the fireworks display on July 15, 2000, vessel operators within Regulated Area B are prohibited from passing outbound patrol vessels showing blue lights.

(4) Vessel operators must remain in established spectator anchorages established in 33 CFR 110.T01.135-191, from 8 am, until 6 pm on July 11 and 16, 2000 except as authorized by the Captain of the Port.

(5) Vessel operators anchored in Spectator Anchorages N, P, or Q established in 33 CFR 110.T01-135-191 may depart those anchorages to view offshore activities following the Salute to USS CONSTITUTION on July 16, 2000, provided they observe enforced safety zones and transit outside main channels. Vessel operators who cannot safely navigate outside of established channels must remain anchored until the channels are reopened to routine navigation.

(6) Vessels, except for those participating in the Grand Parade of Sail and Salute to the USS CONSTITUTION or duly authorized patrol craft, may not enter or remain in the Reserved Channel or block access to any tall ship mooring sites in Regulated Area B from 8 am until 6 pm on July 11 and July 16, 2000 except as authorized by the Captain of the Port.

(7) Vessel operators transiting the Reserved Channel during authorized times, not mentioned in (b)(6) of this section, must enter and keep to the starboard side of the channel, proceeding as directed by on-scene Coast Guard patrol personnel. Vessel traffic shall move in a counterclockwise direction around the turning point established off the Sithe New England power plant, as marked by an appropriate on-scene patrol vessel. Vessel operators shall exit the Reserved Channel keeping to the starboard side of the channel.

(8) Vessel operators transiting the regulated areas must maintain at least fifty (50) feet safe distance from all moored tall ships and make way for all deep draft vessel traffic underway in the regulated areas.

(9) Vessels, except emergency, law enforcement, and those authorized by the Captain of the Port, may not transit through Regulated Area C, which has been designated as an Emergency Transit Lane.

(c) Effective dates. This section is effective from 8 am on July 11, 2000 until 6 pm on July 16, 2000.

PART 110—ANCHORAGE GROUNDS

3. The authority citation for part 110 continues to read as follows:

Authority: 33 U.S.C. 471; 1221 through 1236, 2030, 2035, 2071; 49 CFR 1.46 and 33 CFR 1.05-1(g).

4. From July 10, 2000 through July 16, 2000, § 110.134 is temporarily suspended and § 110.T01-135-191 is temporarily added as follows:

§ 110.T01-135-191 Boston Harbor, Mass.

Note: Mariners are cautioned that the areas established as spectator anchorages in this section have not been subject to any special survey or inspection and that charts may not show all seabed obstructions or the shallowest depths. In addition, the anchorages are in areas of substantial currents, and not all anchorages are over good holding ground. Mariners are advised to take appropriate precautions when using these temporary anchorages. These are not special anchorage areas. Vessels must display anchor lights, as required by the Inland Navigation rules.

(a) The anchorages. All anchorages in this paragraph are applicable as specified. Vessel operators using the anchorages in this paragraph must comply with the general operational requirements specified in paragraph (b) of this section. All coordinates are NAD 1983.

(1) Long Island Anchorage. (i) All bearings are reflected as true. East of Long Island, bounded as follows: Beginning at the southwestern most point of Gallups Island; then 270° to Long Island; then southerly along the eastern shore line of Long Island to Bass Point; then to the northernmost point of Rainsford Island; then to Georges Island Gong Buoy “6”; and then to the point of beginning.

(ii) This anchorage ground is designated for the exclusive use of recreational vessels.

(iii) This paragraph is applicable from 12 noon on July 10, 2000 until 6 pm on July 11, 2000 and from 12 noon on July 15, 2000 until 6 pm on July 16, 2000.

(2) Castle Island Anchorage. (i) Bounded on the north by Castle Island and adjacent land; on the east by a line between Castle Rocks Fog Signal Light and Old Harbor Shoal Buoy “2”; on the southeast by a line between Old Harbor Shoal Buoy “2” and Old Harbor Buoy “4”; and on the west by a line running due north from Old Harbor Buoy “4” to the shore line at City Point.

(ii) This anchorage ground is designated for the exclusive use of recreational vessels.

(iii) This paragraph is applicable from 12 noon on July 10, 2000 until 6 pm on July 11, 2000 and from 12 noon on July 15, 2000 until 6 pm on July 16, 2000.

(3) Explosives Anchorage. (i) In the lower harbor, bounded on the northeast by a line between the northeast end of Peddocks Island and the northeast end of Rainsford Island; on the northwest by Rainsford Island; on the southwest by a line between the western extremity of Rainsford Island and the westernmost point of Peddocks Island; and on the southeast by Peddocks Island.

(ii) This anchorage ground is designated for the exclusive use of recreational vessels.

(iii) This paragraph is applicable from 12 noon on July 10, 2000 until 6 pm on July 11, 2000 and from 12 noon on July 15, 2000 until 6 pm on July 16, 2000.

(4) Tall Ship Anchorage. (i) All bearings are reflected as true. In the outer harbor in Broad Sound and Nahant Bay, bounded as follows: On the east by a line connecting Boston North Channel Lighted Bell Buoy “2” on Finns Ledge to Off Rock, Littles Point, Swampscott, MA and bounded on the west by a line connecting approximate position 42°22′11″ N, 070°56′17″ W and approximate position 42°24′05″ N, 070°57′05″ W; then running from approximate position 42°24′05″ N, 070°57′05″ W to Bailey's Hill Nahant, MA then north to include Nahant Harbor and Nahant Bay.

(ii) This anchorage is designated for the exclusive use of tall ships participating in the Sail Boston 2000 activities. Vessel movements through these areas during the periods specified, shall be directed by on-scene Coast Guard patrol personnel.

(iii) This paragraph is applicable from 12 noon on July 10, 2000 until 6 pm on July 16, 2000.

(5) Mystic Anchorage. (i) All bearings are reflected as true. All waters in the inner harbor in the Mystic River off Charlestown, in the vicinity of the old Amstar and Revere Sugar docks, bounded as follows: By a line running along 071°04′00″ W extending into the river four hundred (400) feet from shore; then turning 100° and running to the approximate position 071°03′44″ N, then running east along 071°03′44″ W for four hundred (400) feet back to shore; and then running to the point of beginning.

(ii) This anchorage is designated for the exclusive use of tall ships participating in the Sail Boston 2000 activities. Vessel movements through these areas during the periods specified, shall be directed by on-scene Coast Guard patrol personnel.

(iii) This paragraph is applicable from 12 noon on July 10, 2000 until 6 pm on July 16, 2000.

(6) Spectator Anchorage B. (i) All bearings are reflected as true. All waters in the inner harbor along the shoreline of East Boston, east of the Boston Main Channel, bounded as follows: By a line from Boston Main Channel Light “14”, extending northwesterly to the Main Channel's edge at approximate position 42°22′19″ N, 071°02′47″ W, then southeasterly, along Boston Main Channel's eastern edge to 42°22′39″ N, 071°02′33″ W, and then to the southwest corner of Massport Pier “1”, East Boston.

(ii) This anchorage is designated for the exclusive use of recreational vessels 45 feet or less in length with superstructures not to exceed ten (10) feet in height.

(iii) This paragraph is applicable from 12 noon on July 10, 2000 until 6 pm on July 11, 2000 and from 12 noon on July 15, 2000 until 6 pm on July 16, 2000.

(7) Spectator Anchorage C. (i) All bearings are reflected as true. All waters in the inner harbor along the southern edge of Cashman's shipyard, East Boston eastward of the Main Channel, situated to provide a channel between it and Spectator Anchorage D, allowing access to Bird Island Flats, bounded as follows: beginning at 42°21′32.7″ N, 071°01′53″ W; then 210° to the northern edge of the Boston Main Channel; then northwesterly along Boston Main Channel's edge to approximate position 42°21′42″ N, 71°02′28.4″ W; then running to approximate position 42°21′48″ N, 071°02′23″ W; and then running to the point of beginning.

(ii) This anchorage is designated for the exclusive use of inspected small passenger vessels (certificated by the Coast Guard under Subchapter T and K of Title 46, Code of Federal Regulations).

(iii) This paragraph is applicable from 12 noon on July 10, 2000 until 6 pm on July 11, 2000 and from 12 noon on July 15, 2000 until 6 pm on July 16, 2000.

(8) Spectator Anchorage D. (i) All bearings are reflected as true. All waters in the inner harbor along the southwestern edge of Logan International Airport, East Boston, east of the Main Channel, situated to provide a channel between it and Spectator Anchorage C, allowing access to Bird Island Flats, bounded as follows: Beginning at Bird Island Flats Buoy “2”; then running 224° to the northern edge of the Boston Main Channel; then to 42°21′03″ N, 071°01′18″ W; then turning 024° and running to the shore; and then running to the point of beginning at Bird Island Flats Buoy “2.”

(ii) This anchorage is designated for the exclusive use of recreational vessels forty-five (45) feet or less in length. Spectator Anchorage D may not be used as an overnight anchorage from 6 pm until 6 am for any vessels during the Sail Boston 2000 events.

(iii) This paragraph is applicable on July 11, 2000 and July 16, 2000.

(9) Spectator Anchorage E. (i) All bearings are reflected as true. All waters in the inner harbor along the southeastern edge of Logan International Airport, bounded as follows: Beginning at Boston Main Channel Lighted Buoy “12”; then 030° and running to shore; then along the shore to approximate position 42°20′48″ N, 071°00′27.5″ W; then running to approximate position 42°20′38.3″ N, 071°00′35.6″ W; then running along the northern edge of the Boston Main Channel to the point of beginning.

(ii) This anchorage is designated for the exclusive use of recreational vessels with a height above water at any point not to exceed fifty (50) feet.

(iii) This anchorage may not be used as an overnight anchorage between 6 pm and 6 am for any vessels during the Sail Boston 2000 events.

(iv) This paragraph is applicable July 11, 2000 and July 16, 2000.

(10) Spectator Anchorage F. (i) All bearings are reflected as true. All waters in the inner harbor along the Massport North Jetty, South Boston, bounded as follows: Beginning at approximate position 42°21′05″ N, 071°01′54″ W; then running to approximate position 42°20′59″ N, 071°01′39″ W; then running to 42°20′56″ N, 071°01′41″ W; then running northwesterly along the face of the Massport North Jetty to the corner of the Jetty; and then to the point of beginning.

(ii) This anchorage is designated for the exclusive use of recreational vessels forty-five (45) feet or less in length with superstructures not to exceed ten (10) feet in height.

(iii) This paragraph is applicable from 12 noon on July 10, 2000 until 6 pm on July 11, 2000 and from 12 noon on July 15, 2000 until 6 pm on July 16, 2000.

(11) Spectator Anchorage G. (i) All waters in the inner harbor along the Fan Pier, South Boston, situated to provide a channel between it and Boston Special Anchorage, allowing access to the Fort Point Channel, bounded and described as follows: beginning at 42°21′22″ N, 071°02′50″ W; then to 42°21′24″ N, 071°02′38″ W; then to 42°21′04″ N, 071°02′31″ W; then to 42°21′20″ N, 071°02′26″ W; then to Pier “4” Wreck Buoy (white and orange can, privately maintained); and then to the point of beginning.

(ii) This anchorage is designated as a special use anchorage, as deemed appropriate by the Captain of the Port. No vessel may anchor in this Anchorage without the permission of the Captain of the Port.

(iii) This paragraph is applicable from 12 noon on July 10, 2000 until 6 pm on July 11, 2000 and from 12 noon on July 15, 2000 until 6 pm on July 16, 2000.

(12) Spectator Anchorage H. (i) All waters in the inner harbor bounded as follows: Beginning at the Boston Main Channel Lighted Buoy “6”; then to 42°20′12″ N, 070°59′14.5″ W; then to Boston Main Channel Lighted Buoy “4”; and then to the point of beginning.

(ii) This anchorage is designated for the exclusive use of recreational vessels of any size.

(iii) This paragraph is applicable from 12 noon on July 10, 2000 until 6 pm on July 11, 2000 and from 12 noon on July 15, 2000 until 6 pm on July 16, 2000.

(13) Spectator Anchorage J. (i) All waters in the inner harbor to include the waters between the Main Channel and Governor's Island Flats, bounded as follows: Beginning at 42°20′12″ N, 070°59′14.5″ W; then to 42°20′30″ N, 70°59′14.5″ W; then to President Roads Anchorage Lighted Buoy “D”, located at approximate position 42°20′33″ N, 70°58′52″ W then to 42°20′05″ N, 070°58′43.5″ W; then to Boston Main Channel Lighted Bell Buoy “4”, located at approximate position 42°20′04″ N, 070°59′26″ W; and then to the point of beginning.

(ii) This anchorage is designated for the exclusive use of commercial fishing vessels.

(iii) This paragraph is applicable from 12 noon on July 10, 2000 until 6 pm on July 11, 2000 and from 12 noon on July 15, 2000 until 6 pm on July 16, 2000.

(14) Spectator Anchorage K. (i) All bearings are reflected as true. All waters in the inner harbor between the Main Channel and Deer Island Flats as follows: Beginning at a point bearing 237°, 522 yards from Deer Island Light; thence to a point bearing 254°, 2,280 yards from Deer Island Light; thence to a point bearing 261°, 2,290 yards from Deer Island Light; thence to a point bearing 278°, 2,438 yards from Deer Island Light; thence to a point bearing 319°, 933 yards from Deer Island Light; thence to a point bearing 319°, 666 yards from Deer Island Light; and thence to the point of beginning.

(ii) This anchorage is a special use anchorage, as deemed appropriate by the Captain of the Port. No vessel may anchor in this Anchorage without the permission of the Captain of the Port

(iii) This paragraph is effective from 12 noon on July 10, 2000 until 6 pm on July 11, 2000 and from 12 noon on July 15, 2000 until 6 pm on July 16, 2000.

(15) Spectator Anchorage L. (i) In the inner harbor off the northwestern edge of Long Island into the entrance to Sculpin Ledge Channel, bounded as follows: Beginning at Boston Main Channel Lighted Buoy “17”; then to 42°19′40.5″ N, 070°57′50″ W; then to 42°19′40.5″ N, 070°58′43.8″ W; then to Boston Main Channel Lighted Buoy “1”; and then to the point of beginning.

(ii) This anchorage is designated for the exclusive use of inspected small passenger vessels (certificated by the Coast Guard under Subchapter T and K of Title 46, Code of Federal Regulations), sailing school vessels, uninspected passenger vessels, and bareboat charter vessels.

(iii) This paragraph is applicable from 12 noon on July 10, 2000 until 6 pm on July 11, 2000 and from 12 noon on July 15, 2000 until 6 pm on July 16, 2000.

(16) Spectator Anchorage M. (i) All waters in the inner harbor along the northern edge of Spectacle Island, bounded as follows: Beginning at 42°20′00″ N, 071°00′00″ W; then to Boston Main Channel Lighted Buoy “3”; then to Boston Main Channel Lighted Buoy “1”; then to 42°19′40″ N, 070°59′57″ W; and then to the point of beginning.

(ii) This anchorage is designated for the exclusive use of recreational vessels of any size.

(iii) This paragraph is applicable from 12 noon on July 10, 2000 until 6 pm on July 11, 2000 and from 12 noon on July 15, 2000 until 6 pm on July 16, 2000.

(17) Spectator Anchorage N. (i) All waters in the outer harbor along the western edge of the Boston North Channel bounded as follows: Beginning at Boston North Channel Lighted Bell Buoy “10”; then to Boston North Channel Lighted Buoy “4”; then to 42°22′00″ N, 070°56′24″ W; then to 42°21′40″ N, 070°56′17.5″ W; then to 42°21′20.5″ N, 070°56′10″ W; then to 42°20′39″ N, 070°56′38.5″ W; and then to the point of beginning.

(ii) This anchorage is designated for any latecoming spectator craft on hand to view the Grand Parade of Sail and Salute to USS CONSTITUTION Parade.

(iii) This paragraph is applicable from 12 noon on July 10, 2000 until 6 pm on July 11, 2000 and from 12 noon on July 15, 2000 until 6 pm on July 16, 2000.

(18) Spectator Anchorage P. (i) All bearings are reflected as true. All waters in the outer harbor between the eastern edge of the Boston North Channel and Boston South Channel, bounded as follows: Beginning at Boston North Channel Lighted Buoy “3”; then southeast to Boston South Channel Lighted Buoy “6”; then along the northern edge of Boston South Channel to Boston South Channel Lighted Buoy “10”; then to Boston North Channel Lighted Buoy “PR”; then along the eastern edge of the Boston North Channel to the point of beginning.

(ii) This anchorage is designated for any latecoming spectator craft on hand to view the Grand Parade of Sail and Salute to USS CONSTITUTION Parade.

(iii) This paragraph is applicable from 12 noon on July 10, 2000 until 6 pm on July 11, 2000 and from 12 noon on July 15, 2000 until 6 pm on July 16, 2000.

(19) Spectator Anchorage Q. (i) All waters in the outer harbor at the entrance to the Boston South Channel, bounded as follows: Beginning at Boston North Channel Lighted Buoy “PR”; then to Boston South Channel Lighted Buoy “10”; then to Boston South Channel Buoy “11” then to 42°20′15″ N, 070°56′23″ W; and then to the point of beginning.

(ii) This anchorage is designated for the exclusive use of inspected small passenger vessels (certificated by the Coast Guard under subchapter T and K of title 46, Code of Federal Regulations), sailing school vessels, uninspected passenger vessels, and bareboat charter vessels. Spectator Anchorage Q has one localized ledge eight feet deep.

(iii) This paragraph is applicable from 12 noon on July 10, 2000 until 6 pm on July 11, 2000 and from 12 noon on July 15, 2000 until 6 pm on July 16, 2000.

(b) The regulations. The anchorages designated in paragraphs (a)(1) through (19) of this section are subject to the following regulations:

(1) General Operational Requirements for all anchorages. Vessel operators using any of the anchorages established in this section shall:

(i) Ensure their vessels are properly anchored and remain safely in position at anchor during marine events;

(ii) Comply as directed by on-scene Coast Guard patrol personnel. On-scene Coast Guard patrol personnel include commissioned, warrant, and petty officers of the Coast Guard on board Coast Guard, Coast Guard Auxiliary, U.S. Navy, local, state, and federal law enforcement vessels;

(iii) Vacate anchorages after termination of their effective periods;

(iv) Mark with an identifiable bouy any anchors which have been fouled on lobster trap lines or other obstructions if such anchors cannot be freed or raised.

(v) Use only Spectator Anchorages N, P, or Q if going offshore to view the tall ship events occurring in Massachusetts Bay on July 11, 2000 and July 16, 2000;

(vi) Display anchor lights when anchoring at night in any anchorage;

(vii) Not leave vessels unattended in any anchorage at any time; (viii) Not tie off to any buoy;

(ix) Maintain at least twenty (20) feet of clearance if maneuvering between anchored vessels;

(x) Not nest or tie off to other vessels in that anchorage;

(xi) Not block access to designated emergency medical evacuation areas.

(c) Effective dates. This section is effective from July 10, 2000 until July 16, 2000.

PART 165—REGULATED NAVIGATION AREAS AND LIMITED ACCESS AREAS

The authority citation for part 165 continues to read as follows:

Authority: 33 U.S.C. 1225 and 1231; 50 U.S.C. 191; 49 CFR 1.46 and 33 CFR 1.05-1(G), 6.04-1, 6.04-6, and 160.5.

5. Add § 165.TO1-191 to read as follows:

§ 165.TO1-191 Safety Zone: Tall Ship Rally and Grand Parade of Sail, Broad Sound and Boston Harbor, Boston, MA.

(a) Location. The following are safety zones (all coordinates are NAD 1983): (1) All waters within a three hundred (300) yard radius of each vessel participating in the Grand Parade of Sail as it proceeds from approximate position 42°24′00″ N, 070°52′00″ W in Broad Sound, following the Boston North Channel and Boston Main Channel to various mooring sites throughout Boston Inner Harbor.

(2) All waters within a five hundred (500) yard radius from approximate position 42°23′06″ N, 070°53′26″ W; and

(3) All tall ship anchorages established in 33 CFR § 110.T01-135-191.

(b) Effective dates. This section is effective from 6 pm on July 10, 2000 until 6 p.m. on July 11, 2000.

(c) Regulations. The following special regulation applies: Vessels, except those participating in the Grand Parade of Sail, and duly authorized patrol craft, may not transit the safety zone except as authorized by the Captain of the Port.

6.Add § 165.TO1-192 to read as follows:

§ 165.TO1-192 Safety Zone: Boston 2000 Fireworks Extravaganza, Boston Inner Harbor, Boston, MA.

(a) Location. The following is a safety zone (all coordinates are NAD 1983): All waters within a four hundred (400) yard radius of Boston 2000 Fireworks Extravaganza barges and attending tug boats moored at approximate position 42°21′30″ N, 071°02′30″ W.

(b) Effective date. This section is effective from 8 pm until 11 p.m. on July 15, 2000.

(c) Regulations. The following special regulation applies: Vessels may not transit through the safety zone unless authorized by the Captain of the Port.

7. Add new § 165.TO1-193 to read as follows:

§ 165.TO1-193 Safety Zone: Salute to USS CONSTITUTION Parade, Boston Harbor, Boston, MA.

(a) Location. The following are safety zones (all coordinates are NAD 1983): (1) all waters within a three hundred (300) yard radius of the USS CONSTITUTION anchored at approximate position 42°20′24″ N, 071°58′14″ W.

(2) A moving safety zone within a three hundred (300) yard radius of all vessels participating in the Salute to the USS CONSTITUTION as they proceed from their various Boston Inner Harbor mooring sites transiting outbound using the Boston Main Channel and Boston North Channel to the Tall Ship 2000 Restart in Broad Sound established in 33 CFR 165.T01-194. The zone also includes all temporary spectator anchorages established in 33 CFR 110.T01-135-191.

(b) Effective period. This section is effective from 8 am until 6 pm on July 16, 2000.

(c) Regulations. The following special regulation applies: Vessels, except for those participating in the Salute to USS CONSTITUTION and duly authorized patrol craft, may not enter or remain in the safety zone except as authorized by the Captain of the Port.

8. Add § 165.TO1-194 to read as follows:

§ 165.TO1-194 Safety Zone: Tall Ships 2000 Race Restart, Massachusetts Bay, Boston, MA.

(a) Location. The following is a safety zone (all coordinates are NAD 1983): All waters in a three (3) square mile area in Massachusetts Bay bounded as follows: Beginning at 42°27′12″ N, 070°40′00″ W; thence to 42°27′12″ N, 070°36′00″ W; thence to 42°24′06″ N, 070°36′00″ W; thence to 42°24′06″ N, 070°40′00″ W; and thence to the point of beginning.

(b) Effective period. This section is effective from 10 am on until 6 pm on July 16, 2000.

(c) Regulations. The following regulation applies: Vessels, except for those participating in the Tall Ships 2000 Race Restart, and duly authorized patrol craft, may not enter or remain in the safety zone from 10 a.m. to 6 p.m. except as authorized by the Captain of the Port.

9. Add § 165.TO1-195 to read as follows:

§ 165.TO1-195 Security Zone: USS JOHN F. KENNEDY, North Jetty, Boston Harbor, Boston, MA.

(a) Location. The following is a security zone (all coordinates are NAD 1983): All waters of Boston inner harbor at the North Jetty, South Boston, bounded as follows: Beginning at 42°20′53″ N, 071°01′34″ W; thence to 42°20′56″ N, 071°01′32″ W; along the western edge of Boston Harbor South Channel thence to 42°20′51″ N, 071°01′23″ W; thence to 42°20′49″ N, 071°01′24″ W; then running along the pier face to the point of beginning.

(b) Effective dates. This section is effective from 6 pm on July 10, 2000 until 6 pm on July 16, 2000.

(c) Regulations. The following special regualtion applies: Vessels may not enter the security zone except unless authorized by the Captain of the Port.

Dated: February 29, 2000.
G.N. Naccara,
Rear Admiral, U.S. Coast Guard Commander, First Coast Guard District.

[FR Doc. 00-6249 Filed 3-14-00; 8:45 am]

BILLING CODE 4910-15-U